DEPARTMENT OF THE INTERIOR

National Park Service

Final General Management Plan and Environmental Impact Statement, Fort Stanwix National Monument, NY

AGENCY: National Park Service, Department of the Interior.

ACTION: Notice of Availability of Final General Management Plan and Environmental Impact Statement, Fort Stanwix National Monument, New York.

SUMMARY: Pursuant to the National Environmental Policy Act of 1969, 42 U.S.C. 4332(2)(C), the National Park Service (NPS) announces the availability of a Final General Management Plan and Environmental Impact Statement (GMP/EIS) for Fort Stanwix National Monument, located in the city of Rome, New York. Consistent with National Park Service rules, regulations, and policies, and the park's mission, the proposed federal action to establish a programmatic framework for park management in the form of a general management plan that is consistent with the purposes of the park as set forth in the park's enabling legislation An Act to Provide for the Establishment of a National Monument on the Site of Fort Stanwix in the State of New York (Pub. L. 74-291).

The Final GMP/EIS analyzes alternatives to guide the management and development of Fort Stanwix National Monument over the next 15 to 20 years, consistent with the park's mission and NPS policy and other laws and regulations. NPS regional planning staff and staff at Fort Stanwix NM collaborated in the development of the Final GMP/EIS. The main issues that the Final GMP/EIS has focused on include protection of cultural resources, visitor services, partnership opportunities, carrying capacity, and the park boundary.

The Final GMP/EIS analyzes two alternatives to guide the management and development of Fort Stanwix National Monument. Alternative 1: No Action focuses on basically maintaining current management, protection, and interpretive practices and interpreting the siege of Fort Stanwix in the Revolutionary War. Alternative 2: Action Alternative seeks to broaden interpretation of Fort Stanwix in the context of the Northern Frontier, the Mohawk Valley, and American Indian history; forge new partnerships; upgrade exhibits and waysides; expand the interpretive role of the Marinus Willett Center; and develop an 18th-century cultural landscape treatment plan for the site. Alternative 2 is the preferred alternative because it best supports the park's purpose, significance and goals, while also providing management direction that best protects resources and offers high-quality visitor experiences.

The Final GMP/EIS describes the affected environment and evaluates potential environmental consequences of implementing the alternatives. Impact topics include cultural and natural resources, visitor experience, park operations, and the socioeconomic environment.

The Draft General Management Plan/Environmental Impact Statement (GMP/EIS) was made available for public review between September 15 and December 1, 2008. On August 26, 2008, a “Notice of Availability” formally announcing the public availability of the Draft GMP/EIS was published in the Federal Register (73 FR 50343). A public meeting was held in Rome, NY, on October 23, 2008. During the comment period, 14 written comments were received by the planning team. Most respondents supported the preferred alternative.

DATES: The National Park Service will prepare a Record of Decision concerning the selection of a management alternative no sooner than 30 days following publication by the Environmental Protection Agency of Notice of Availability of the Final GMP/EIS in the Federal Register.

Further Information and Addresses: The Final General Management Plan/Environmental Impact Statement for Fort Stanwix National Monument is available public online at http://parkplanning.nps.gov. Copies are available upon request by contacting Superintendent Debbie Conway, Fort Stanwix National Monument,112 East Park Street, Rome, NY 13440; phone 315-338-7730; Debbie_Conway@nps.gov.

Dennis R. Reidenbach,
Regional Director, Northeast Region.

[FR Doc. E9-17071 Filed 7-16-09; 8:45 am]

BILLING CODE 4310-D2-P